DEPARTMENT OF THE INTERIOR

Bureau of Land Management

[LLNVL00000-L51010000-ER0000-LVRWF12F3450 241A; MO#; N-78803; 13-08807; TAS:14X5017]

Notice of Availability of the Record of Decision for the Clark, Lincoln, and White Pine Counties Groundwater Development Project Right-of-Way, NV

AGENCY: Bureau of Land Management, Interior.

ACTION: Notice of availability.

SUMMARY: The Bureau of Land Management (BLM) announces the availability of the Record of Decision (ROD) for the Clark, Lincoln, and White Pine Counties Groundwater Development Project Right-of-Way (ROW). The Deputy Secretary of the Department of the Interior approved the ROD on December 19, 2012, which constitutes the final decision of the Department of the Interior and makes the decision effective immediately.

ADDRESSES: Copies of the ROD are available upon request from the BLM Water Projects Office, Nevada State Office, or at the Web site: http://www.blm.gov/5w5c. To request a printed copy of the ROD with a CD containing the attachments, contact the BLM Nevada State Office, Water Projects Office, 1340 Financial Blvd., Reno, NV 89502, phone 775-861-6681, or email: nvgwprojects@blm.gov. Copies of the ROD will be available for review at the following BLM offices in Nevada:

• BLM Nevada State Office, 1340 Financial Blvd., Reno;

• BLM Ely District Office, 702 North Industrial Way, Ely;

• BLM Caliente Field Office, US Hwy 93, Bldg #1, Caliente; and

• BLM Southern Nevada District Office, 4701 North Torrey Pines, Las Vegas

FOR FURTHER INFORMATION CONTACT: Penny Woods, BLM Project Manager, 1340 Financial Blvd., Reno, NV 89502, telephone: 775-861-6466, or email: nvgwprojects@blm.gov with “ROD Copy Request” in the subject line.

SUPPLEMENTARY INFORMATION: After extensive environmental analysis, consideration of public comments, and application of pertinent Federal laws and policies, it is the decision of the Department of the Interior to offer to the Southern Nevada Water Authority (SNWA) a ROW grant for the construction, operation, maintenance, and termination of the mainline water pipeline, main power lines, pump stations, regulating tanks, and other ancillary facilities of the project for a groundwater delivery system. The Lincoln County Conservation, Recreation and Development Act of 2004, Public Law 108-424, directs the Secretary of the Interior to issue a ROW grant on Federal lands in Lincoln, and Clark counties, Nevada for this project. The ROW grant will authorize the use of public lands in perpetuity. The decision authorizes BLM to issue of a ROW grant to the SNWA for the preferred alternative as analyzed in the Final Environmental Impact Statement (EIS), issued on August 3, 2012. The Environmental Protection Agency published a Notice of Availabilty of the Final EIS in the Federal Register on August 3, 2012.

The ROD adopts Alternative F in the Final EIS, which includes an alignment from Las Vegas Valley north through Coyote Spring, Delamar, Dry Lake, terminating in central Spring Valley, with a lateral route into Cave Valley. The ROD does not authorize any infrastructure facilities to be constructed in Snake Valley. The ROD limits future pumping amounts to those amounts granted by the Nevada State Engineer rulings in March 2012. In addition, this decision adopts a realignment that would reroute the main power line from Spring Valley to the Gonder Substation across Steptoe Valley, slightly to the north within a corridor on U.S. Forest Service land. This realignment will require a special use permit from the U.S. Forest Service.

Although the Final EIS analyzed future facilities and groundwater development on a programmatic basis, the ROD does not authorize any of this possible future development. Rather, the ROD lays out a process for the BLM to conduct analyses in the future for the additional development. The process includes BLM engagement with state, local and tribal governments and other Federal agencies, as well as the proponent, to develop groundwater and resource information and to establish data collection, action triggers, and monitoring and mitigation procedures.

This is the final decision for the Department of the Interior and, in accordance with the regulations at 43 CFR 4.410(a)(3), is not subject to appeal under Departmental regulations at 43 CFR part 4. Any challenge to this decision, including the BLM Authorized Officer's issuance of the ROW as directed by this decision, must be brought in federal district court.

Amy Lueders,
Nevada State Director.

[FR Doc. 2012-31144 Filed 12-26-12; 8:45 am]

BILLING CODE 4310-HC-P